DEPARTMENT OF HEALTH AND HUMAN SERVICES

Centers for Disease Control and Prevention

Coordination of Activities Between the CDC's National Immunization Program and the State and Territorial Health Officials

Announcement Type: New.

Funding Opportunity Number: RFA AA005.

Catalog of Federal Domestic Assistance Number: 93.185.

Letter of Intent Deadline: June 27, 2005.

Application Deadline: July 25, 2005.

I. Funding Opportunity Description

Authority: This program is authorized under section 311 [42 U.S.C. 243] and 317(k)(1) [42 U.S.C. 247b(k)(1)] of the Public Health Service Act as amended.

Purpose: The purpose of the program is to coordinate the activities between the National Immunization Program (NIP) and the state and territorial health officials on issues related to immunizations for children, adolescent and adults. Specifically: (1) To allow exchange of information between the state and territorial health officials and NIP, (2) to inform state and territorial health officials of current, proposed and new legislation regarding immunization, (3) to create mechanisms to communicate and inform state and territorial health officials and partners about timely and new immunization initiatives and the progress of current immunization programs, (4) to encourage states to participate in federal and state immunization initiatives, and (5) to create partnerships between State health departments and other immunization related stakeholders, and to educate health officials, providers and the public on the importance of timely vaccination. This program addresses the “Healthy People 2010” focus areas of Immunization and Infectious Disease.

Measurable outcomes of the program will be in alignment with the following performance goals for NIP:

• Reduce the number of indigenous cases of vaccine preventable diseases,

• Ensure that two year-olds are appropriately vaccinated, and

• Increase the proportion of adults who are vaccinated annually against influenza and ever vaccinated against pneumococcal disease.

This announcement is only for non-research activities supported by CDC/ATSDR. If research is proposed, the application will not be reviewed. For the definition of research, please see the CDC Web site at the following Internet address: http://www.cdc.gov/od/ads/opspoll1.htm.

Activities: Awardee activities for this program are as follows:

1. Coordinate immunization efforts with existing state and territorial health officials' health projects, Special Supplemental Nutrition Program for Women, Infants and Children (WIC) program, the Council of State and Territorial Epidemiologists (CSTE), the Association of Immunization Managers (AIM), the National Association of County and City Health Officials (NACCHO) and other organized health related associations where immunization programs can have an impact on increasing vaccination coverage.

2. Attend meetings and inform state and territorial health officials and other partners of issues addressed by the Advisory Committee on Immunization Practices (ACIP), the National Vaccine Advisory Committee (NVAC) and the immunization-related committees of the Association of State and Territorial Health Officials, NACCHO and AIM.

3. Provide information on key immunization-related developments and legislative issues to state and territorial health officials, state immunization coordinators, appropriate adult or adolescent groups, and other partners via newsletters, conference calls, and other multimedia sources.

4. Organize and convene meetings and workshops on an as needed basis for the purpose of exchanging immunization related information and program updates. Provide representation of state and territorial health officials at national meetings.

5. Collaborate with CDC on immunization-related issues including vaccine supply, vaccine financing, implementation of new vaccines, pandemic preparedness, adolescent and adult immunization and the development and coordination of immunization national policy and evaluation.

In a cooperative agreement, CDC staff are substantially involved in the program activities, above and beyond routine grant monitoring.

CDC activities for this program are as follows:

1. Provide technical assistance in implementing activities, identifying major immunization-related issues, identifying effective programs, and setting priorities related to the cooperative agreement.

2. Provide scientific collaboration for appropriate aspects of the awardees' activities, including information on disease impact, vaccination coverage levels, vaccine supply and prevention strategies.

3. Assist in development and review of relevant immunization information made available to federal, State and local health agencies, health care providers and volunteer organizations.

4. In conjunction with the grantee, establish and implement mechanisms for evaluating the reach of the program and effectiveness of the materials produced.

II. Award Information

Type of Award: Cooperative Agreement. CDC involvement in this program is listed in the Activities Section above.

Fiscal Year Funds: 2005.

Approximate Total Funding: $250,000. (This amount is an estimate, and is subject to availability of funds.)

Approximate Number of Awards: 1.

Approximate Average Award: $250,000. (This amount is for the first 12-month budget period, and includes both direct and indirect costs)

Floor of Award Range: None.

Ceiling of Award Range: $ 250,000. (This ceiling is for the first 12-month budget period.)

Anticipated Award Date: August 31, 2005.

Budget Period Length: 12 months.

Project Period Length: 5 years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public or private national nonprofit organizations and by governments and their agencies that officially represent the chief public health officials of each state and territory and have the knowledge and understanding of the needs and operations of state health agencies, especially regarding immunization-related programs and services.

A Bona Fide Agent is an agency/organization identified by the state as eligible to submit an application under the state eligibility in lieu of a state application. If you are applying as a bona fide agent of a state or local government, you must provide a letter from the state or local government as documentation of your status. Place this documentation behind the first page of your application form.

Justification of Limitation: Assistance will be provided to one applicant that can demonstrate the ability to accomplish the objectives stated above (See section I purpose). Applicant should be able to demonstrate ability to provide support to the state and territorial health officials on immunization-related issues and have knowledge of immunization policy, experience in supporting immunization programs, and ability to collaborate on immunization activities. The applicant should officially represent chief health officials from all states and territories.

III.2. Cost Sharing or Matching

Matching funds are not required for this program.

III.3. Other

CDC will accept and review applications with budgets greater than the ceiling of the award range.

Special Requirements: If your application is incomplete or non-responsive to the special requirements listed in this section, it will not be entered into the review process. You will be notified that your application did not meet submission requirements.

• Late applications will be considered non-responsive. See section “IV.3. Submission Dates and Times” for more information on deadlines.

• Applications may be submitted by public or private national nonprofit organizations and by governments and their agencies that officially represent the chief public health officials of each state and territory and have the knowledge and understanding of the needs and operations of state health agencies, especially regarding immunization-related programs and services.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

To submit your application electronically, please utilize the forms and instructions posted for this announcement at http://www.grants.gov.

If you do not have access to the Internet, or if you have difficulty accessing the forms on-line, you may contact the CDC Procurement and Grants Office Technical Information Management Section (PGO-TIM) staff at: 770-488-2700. Application forms can be mailed to you.

IV.2. Content and Form of Submission

Letter of Intent: A Letter of Intent (LOI) is optional for this program. The RFA title and number must appear in the LOI. Your letter of intent will not be evaluated, but will be used to assist CDC in planning for the objective review for this program.

Your LOI must be written in the following format:

• Maximum number of pages: 2

• Font size: 12-point unreduced

• Paragraph spacing: Double spaced

• Paper size: 8.5 by 11 inches

• Page margin size: One inch

• Printing: Only on one side of page

• Written in plain language, avoid jargon

Your LOI must contain the following information:

• The name of the organization

• The primary contact person's name, mailing address, phone number, fax and e-mail address

• The mission/activities of the organization

• A description of the organization's membership, including the number of members in the organization.

Application: You must submit a project narrative with your application forms. The narrative must be submitted in the following format:

• Maximum number of pages: 25. If your narrative exceeds the page limit, only the first pages which are within the page limit will be reviewed.

• Font size: 12 point unreduced

• Paragraph spacing: Double spaced

• Paper size: 8.5 by 11 inches

• Page margin size: One inch

• Printing: only on one side of page

• Held together only by rubber bands or metal clips; not bound in any other way.

Your narrative should address activities to be conducted over the entire project period, and must include the following items in the order listed:

1. Background

• Provide a narrative, including background information on the applicant organization that includes evidence of relevant experience in coordinating activities among constituents and a clear understanding of the purpose of the project.

• Include details of past experience working with the target population(s). Provide information on organizational capability to conduct proposed project activities.

2. Program Management

• Describe the professional personnel involved in the management of this project and their qualifications.

• Provide evidence of an organizational structure that can meet the terms of the project. Include an organizational chart of the applicant organization specifying the location and staffing plan for the proposed project.

3. Objectives

• Establish long-term (5 years) and short-term (one-year) objectives that are specific, realistic, measurable and time-phased. Include an explanation of how the objectives contribute to the purpose of the request for assistance and evidence that demonstrates the potential effectiveness of the proposed objectives.

4. Methods of Operation

• Describe the operational plan for achieving each objective established. Concisely describe each component or major activity and how it will be carried out.

• Include a time-line for completing each component or major activity.

• Provide a plan for disseminating project results indicating when, to whom, and in what format the materials will be presented.

5. Evaluation Plan

• Describe the plan for monitoring progress toward achievement of each of the objectives.

6. Collaboration Activities

• Obtain and include letters of support, written in the last 12 to 24 months from constituents.

• Provide any memoranda of agreement from collaborating organizations indicating a willingness to participate in the project, the nature of their participation, period of performance, names and titles of individuals who will be involved in the project, and the process of collaboration. Each memorandum should also show an understanding and endorsement of immunization activities.

• Provide evidence of collaborative efforts with health departments, provider organizations, coalitions, and other local organizations.

7. Budget Information

• Provide a detailed budget with justification. The budget proposal should be consistent with the purpose and program plan of the proposed project.

• Provide an itemized (line-item) budget categorized by objective.

The budget proposal should be in the application appendices. The appendices will not be counted toward the narrative page limit.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: June 27, 2005.

CDC requests that you send a LOI if you intend to apply for this program. Although the LOI is not required, not binding, and does not enter into the review of your subsequent application, the LOI will be used to gauge the level of interest in this program, and to allow CDC to plan the application review.

Application Deadline Date: July 25, 2005.

Explanation of Deadlines: Applications must be received in the CDC Procurement and Grants Office by 4 p.m. eastern time on the deadline date. If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

If you submit your application electronically, you will receive an e-mail notice of receipt.

CDC will not notify you upon receipt of your submission. If you have a question about the receipt of your LOI or application, first contact your courier. If you still have a question, contact the PGO-TIM staff at: 770-488-2700. Before calling, please wait two to three days after the submission deadline to allow time for submissions to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds may not be used for research.

• Reimbursement of pre-award costs is not allowed.

• Construction, renovations, purchase or lease of passenger vehicles or vans, or supplementing any applicant expenditure are not allowed.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or e-mail to: Nicole Smith, Centers for Disease Control and Prevention, National Immunization Program, 1600 Clifton Road, NE., MS E-52, Atlanta, GA 30333. (404) 639-6220 (phone). (404) 639-8627 (fax). nsmith2@cdc.gov (E-mail address).

Application Submission Address: You may submit your application electronically at: http://www.grants.gov, OR submit the original and two hard copies of your application by mail or express delivery service to: Technical Information Management—RFA AA005, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Experience (15 Points)

Does the applicant document having experience in representing chief health officials from each of the states and territories and actively engaging them in issues and policies related to immunization? Does the applicant have the ability to communicate with their constituents on timely issues?

2. Collaboration (15 Points)

Does the applicant's organization include representatives from each of the states and territories from all parts of the nation? Has the applicant worked with state and territorial health officials, as well as partner organizations on immunization issues?

3. Understanding the project (15 Points)

Does the applicant understand the requirements, problems, objectives, complexities, and interactions required of this project?

4. Objectives (15 Points)

Are the proposed objectives clearly stated, realistic, time phased and related to the purpose of this project?

5. Operational Plan and Timetable (15 Points)

Are the applicant's plans to carry out the proposed activities feasible and consistent with the stated objectives in this proposal? Does the timetable incorporate major activities and milestones that are specific, measurable and realistic? Does the plan include dates and persons responsible for accomplishing tasks?

6. Staff Capacity (15 Points)

Do the professional personnel proposed to be involved in administering this project and the professional personnel proposed to provide program leadership have the capacity to perform the work proposed? Do the staff have qualifications with evidence of past achievements?

7. Evaluation Plan (10 Points)

Does the evaluation plan appear feasible for monitoring progress toward meeting the stated project objectives? In addition to evaluating outcomes-related project objectives, does the plan clearly describe how the grantee will use performance measures to track internal processes?

8. Budget (Not Scored)

Is the budget reasonable, clearly justified, and consistent with the intended use of funds?

9. GPRA Goals (Not Scored)

Will the application further NIP's GPRA goals stated in section “I. Purpose” of this announcement?

V.2. Review and Selection Process

Applications will be reviewed for completeness by the Procurement and Grants Office (PGO) staff, and for responsiveness by the National Immunization Program. Incomplete applications and applications that are non-responsive to the eligibility criteria will not advance through the review process. Applicants will be notified that their application did not meet submission requirements.

An objective review panel will evaluate complete and responsive applications according to the criteria listed in the “V.1. Criteria” section above.

Applications will be funded in order by score and rank determined by the review panel.

V.3. Anticipated Announcement and Award Dates

Award Date: August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-7 Executive Order 12372

• AR-10 Smoke-Free Workplace Requirements

• AR-11 Healthy People 2010

• AR-12 Lobbying Restrictions

• AR-14 Accounting System Requirements

• AR-15 Proof of Non-Profit Status

• AR-20 Conference Support

• AR-25 Release and Sharing of Data

Additional information on these requirements can be found on the CDC Web site at the following Internet address: http://www.cdc.gov/od/pgo/funding/ARs.htm.

VI.3. Reporting Requirements

You must provide CDC with an original, plus two hard copies of the following reports:

1. Interim progress report, due no less than 120 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report and annual progress report, no more than 90 days after the end of the budget period.

3. Final financial and performance reports, no more than 90 days after the end of the project period.

These reports must be mailed to the Grants Management Specialist listed in the “Agency Contacts” section of this announcement.

VII. Agency Contacts

We encourage inquiries concerning this announcement. For general questions, contact: Technical Information Management Section, CDC Procurement and Grants Office, 2920 Brandywine Road, Atlanta, GA 30341. Telephone: 770-488-2700.

For program technical assistance, contact: Nicole Smith, Project Officer, CDC National Immunization Program, 1600 Clifton Road, MS E-52, Atlanta, GA 30333. Telephone: (404) 639-6220. E-mail: nsmith2@cdc.gov.

For financial, grants management, or budget assistance, contact: Peaches Brown, Grants Management Specialist, CDC Procurement and Grants Office, 2920 Brandywine Road, Atlanta, GA 30341. Telephone: 770-488-2738. E-mail: POBrown@cdc.gov.

VIII. Other Information

This and other CDC funding opportunity announcements can be found on the CDC Web site, Internet address: http://www.cdc.gov. Click on “Funding” then “Grants and Cooperative Agreements.”

Information about the National Immunization Program can be found at http://www.cdc.gov/nip.

Dated: May 20, 2005.
William P. Nichols,
Director, Procurement and Grants Office, Centers for Disease Control and Prevention.

[FR Doc. 05-10538 Filed 5-25-05; 8:45 am]

BILLING CODE 4163-18-P